DEPARTMENT OF COMMERCE

International Trade Administration

[A-580-853]

Notice of Postponement of Final Antidumping Duty Determination: Wax and Wax/Resin Thermal Transfer Ribbons From the Republic of Korea

AGENCY: Import Administration, International Trade Administration, Department of Commerce.

ACTION: Postponement of final antidumping duty determination.

EFFECTIVE DATE: March 25, 2004.

FOR FURTHER INFORMATION CONTACT: Fred Baker or Robert James, AD/CVD Enforcement Office 8, Group III, Import Administration, International Trade Administration, U.S. Department of Commerce, 14th Street and Constitution Avenue, NW., Washington, DC 20230; telephone (202) 482-2924 or (202) 482-0649, respectively.

SUMMARY: The Department of Commerce (the Department) is postponing the final determination in the antidumping duty investigation of wax and wax/resin thermal transfer ribbons from the Republic of Korea from March 22, 2004 to March 29, 2004.

SUPPLEMENTARY INFORMATION:

Background

On December 22, 2003, the Department published its Notice of Preliminary Determination of Sales at Not Less Than Fair Value: Wax and Wax/Resin Thermal Transfer Ribbons From the Republic of Korea (68 FR 71078). The preliminary determination was negative. The notice stated the Department would issue its final determination no later than 75 days after the date of the preliminary determination (December 16, 2003).

Section 19 CFR 351.210(b)(2)(i) allows for a postponement of the final determination until not later than 135 days after the date of publication of the preliminary determination at the request of the petitioner, when the preliminary determination was negative.

On February 12, 2004 the Department postponed the final determination to March 22, 2004 at the request of the petitioner. See Notice of Postponement of Final Antidumping Duty Determination: Wax and Wax/Resin Thermal Transfer Ribbons from the Republic of Korea, 69 FR 6941 (February 12, 2004).

Postponement of Final Determination

On March 16, 2004, the Department received a request from the petitioner, International Imaging Materials, Inc. (IIMAK), that the Department postpone the final determination until March 29, 2004. IIMAK made this request under section 19 CFR 351.210(b)(2)(i) which, as noted above, allows the petitioner to request a postponement of the final determination if the preliminary determination was negative. There are no compelling reasons for the Department to deny petitioner's request. Therefore, pursuant to section 19 CFR 351.210(b)(2)(i), the Department is postponing the deadline for issuing the final determination until March 29, 2004.

This notice of postponement is in accordance with section 735(a)(2)(B) of the Tariff Act of 1930, as amended, and 19 CFR 351.210(b)(2).

Dated: March 19, 2004.
Joseph A. Spetrini,
Acting Assistant Secretary for Import Administration.

[FR Doc. 04-6719 Filed 3-24-04; 8:45 am]

BILLING CODE 3510-DS-P